DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are made available for licensing by the Department of the Navy.

U.S. Patent Number 6,958,466, entitled “Method and System For Detecting Targets Known Up to a Simplex from Multi-Spectral and Hyper-Spectral Imagery Employing the Normal Compositional Model”, issue date October 25, 2005.//U.S. Patent Number 6,948,388, entitled “Wireless Remote Sensor”, issue date September 27, 2005.//U.S. Patent Number 6,947,504, entitled “Frequency Synchronizer”, issue date September 20, 2005.//U.S. Patent Number 6,925,136, entitled “Simultaneous Frequency and Phase Synchronizer”, issue date August 2, 2005.//U.S. Patent Number 6,943,358, entitled “Method for Developing a Calibration Algorithm for Quantifying the Hydrocarbon Content of Aqueous Media”, issue date September 13, 2005.//U.S. Patent Number 6,842,013, entitled “Method for Making Transmission Measurements in a Dual-Chambered Anechoic Chamber Using Spatial Averaging”, issue date January 11, 2005.//U.S. Patent Number 6,822,522, entitled “Method and Apparatus for an Improved Nonlinear Oscillator”, issue date November 23, 2004.//U.S. Patent Number 6,802,132, entitled “Electrolytic Tilt Sensor and Method for Manufacturing Same”, issue date October 12, 2004.//U.S. Patent Number 6,784,670, entitled “Dual Chambered Anechoic Chamber”, issue date August 31, 2004.//U.S. Patent Number 6,782,063, entitled “Automatic Gain Control”, issue date August 24, 2004.//U.S. Patent Number 6,753,994, entitled “Spatially Conformable Tunable Filter”, issue date June 22, 2004.//U.S. Patent Number 6,727,941, entitled “Universal Digital Camera Controller with Automatic Iris Tuning”, issue date April 27, 2004.//U.S. Patent Number 6,710,737, entitled “Calibrator for Radar Target Simulator”, issue date March 23, 2004.//U.S. Patent Number 6,671,304, entitled “Amplitude-Modulated Laser for High-Bandwidth Communications Systems”, issue date December 30, 2003.//U.S. Patent Number 6,661,566, entitled “Method and Optical Switch for Altering an Electromagnetic Energy Wave in Response to Acceleration Forces”, issue date December 9, 2003.//U.S. Patent Number 6,631,156, entitled “Digital Data Communications System”, issue date October 7, 2003.//U.S. Patent Number 6,625,896, entitled “Electrolytic Tilt Sensor and Method for Manufacturing Same”, issue date September 30, 2003.//U.S. Patent Number 6,622,092, entitled “Predictor for Optimal Broadband Impedance Matching”, issue date September 16, 2003.//U.S. Patent Number 6,619,866, entitled “Dynamic Range Extended For Optical Transmitters”, issue date September 16, 2003.//U.S. Patent Number 6,584,300, entitled “Object-Oriented System for Simulating Sonar Target Acoustic Scattering”, issue date June 24, 2003.//U.S. Patent Number 6,549,560, entitled “Comb Limiter Combiner for Frequency-Hopped Communications”, issue date April 15, 2003.//U.S. Patent Number 6,525,325, entitled “System for Quantifying the Hydrocarbon Content of Aqueous Media”, issue date February 25, 2003.//U.S. Patent Number 6,507,252, entitled “High Rejection Evanescent Mic Multiplexers for Multifunctional Systems”, issue date January 14, 2003.//U.S. Patent Number 6,466,515, entitled “Power-Efficient Sonar System Employing a Waveform and Processing Method for Improved Range Resolution at High Doppler Sensitivity”, issue date October 15, 2002.//U.S. Patent Number 6,466,184, entitled “Three Dimensional Volumetric Display”, issue date October 15, 2002.//U.S. Patent Number 6,459,745, entitled “Frequency/Timing Recovery Circuit for Orthogonal Frequency Division Multiplexed Signals”, issue date October 1, 2002.//U.S. Patent Number 6,448,941, entitled “Method for Secure Communications Using Spiral Antennas”, issue date September 10, 2002.//U.S. Patent Number 6,437,890, entitled “Laser Communications Link”, issue date August 20, 2002.//U.S. Patent Number 6,414,305, entitled “Automated System for Determining Minimum Resolvable Temperature Differences”, issue date July 2, 2002.//U.S. Patent Number 6,395,435, entitled “Photo-Lithographic Mask Having Total Internal Reflective Surfaces”, May 28, 2002.//U.S. Patent Number 6,232,931, entitled “Opto-Electronically Controlled Frequency Selective Surface”, issue date May 15, 2001.//U.S. Patent Number 6,229,847, entitled “Signal Quality Measurement Device”, issue date May 8, 2001.//U.S. Patent Number 6,198,425, entitled “Pulse Doppler Target Detecting Device”, issue date March 6, 2001.//U.S. Patent Number 6,166,680, entitled “Range Dependent time Delay Target Detecting Device”, issue date December 26, 2000.//U.S. Patent Number 6,138,572, entitled “Three-Beam Passive Infrared Guided Missile Fuze (U)”, issue date October 31, 2000.//U.S. Patent Number 6,137,609, entitled “Over-the-Horizon Optical Communications Transceiver”, issue date October 24, 2000.//U.S. Patent Number 6,133,865, entitled “Cw Converter Circuit”, issue date October 17, 2000.//U.S. Patent Number 6,067,448, entitled “System and Method for Isolating Radio Frequency Signals”, issue date May 23, 2000.//U.S. Patent Number 6,061,821, entitled “Context Based Error Detection and Correction for Binary Encoded Text Messages”, issue date May 9, 2000.//U.S. Patent Number 6,052,100, entitled “Computer Controlled Three-Dimensional Volumetric Display”, issue date April 18, 2000.//U.S. Patent Number 6,040,801, entitled “Low Duty Cycle Navigation System”, issue date March 21, 2000.//U.S. Patent Number 6,008,642, entitled “Stochastic Resonance Detector for Weak Signals”, issue date December 28, 1999.//U.S. Patent Number 5,892,765, entitled “System and Method for Effectuating Communications between Networks Operating Asynchronously with Respect to One Another”, issue date April 6, 1999.//U.S. Patent Number 5,805,635, entitled “Secure Communication System”, issue date September 8, 1998.//U.S. Patent Number 5,789,961, entitled “Noise- and Coupling-Tuned Signal Processor with Arrays of Nonlinear Dynamic Elements”, issue date August 4, 1998.//U.S. Patent Number 5,754,496, entitled “Detector Employing Logic Circuitry for the Selective Screening of Signals (U)”, issue date May 19, 1998.//U.S. Patent Number 5,648,940 entitled “Pulse Coded Sonar Having Improved Doppler Determination Feature”, issue date July 15, 1997.//U.S. Patent Number 5,493,612, entitled “Secure Communication Keying System”, issue date February 20, 1996.//U.S. Patent Number 5,475,802, entitled “Selective Polygon Map Display Method”, issue date December 12, 1995.//U.S. Patent Number 5,341,463, entitled “Selective Polygon Map Display Method”, issue date August 23, 1994.//U.S. Patent Number 5,325,395, entitled “5-Volt Low Level Serial Transceiver”, issue date June 28, 1994.//U.S. Patent Number 5,081,900, entitled “Resonance Damage Process”, issue date January 21, 1992.//U.S. Patent Number 5,073,784, entitled “Transmitter Location System for Frequencies Below Hf”, issue date December 17, 1991.//U.S. Patent Number 5,062,083, entitled “Ping Elongator-Modulator for Realistic Echo Synthesis”, issue date October 29, 1991.

ADDRESSES: Requests for copies of patents cited should be directed to the Space and Naval Warfare Systems Center, Office of Research and Technology Applications, Code 2112, 83570 Silvergate Ave., Room 2306, San Diego, CA 92152-5048.

FOR FURTHER INFORMATION CONTACT: Dr. Stephen H. Lieberman, Office of Research and Technology Applications, Space and Naval Warfare Systems Center, Code 2112, 83570 Silvergate Ave., Room 2306, San Diego, CA 92152-5048, telephone 619-553-2778, E-Mail: stephen.lieberman@navy.mil.

(Authority: U.S.C. 207, 37 CFR part 404)

Dated: March 30, 2006.
Eric McDonald,
Lieutenant Commander, Judge Advocate General's Corps, U.S. Navy, Federal Register Liaison Officer.

[FR Doc. E6-4997 Filed 4-5-06; 8:45 am]

BILLING CODE 3810-FF-P